DEPARTMENT OF AGRICULTURE

Animal and Plant Health Inspection Service

9 CFR Part 93

[Docket No. APHIS-2025-0018]

RIN 0579-AE88

Import Regulations for Horses; Pre-Export Examination

AGENCY: Animal and Plant Health Inspection Service, USDA.

ACTION: Proposed rule.

SUMMARY: We are proposing to remove the requirement that horses offered for importation to the United States be accompanied by documentation of pre-export examination occurring within 48 hours of departure from the port of embarkation endorsed by a salaried veterinary medical officer. We have found that logistical barriers prevent affected parties from meeting this requirement at this time, and that the other requirements of the regulations are sufficient to ensure that imported horses are free of diseases and pests of livestock.

DATES: We will consider all comments that we receive on or before August 19, 2025.

ADDRESSES: You may submit comments by either of the following methods:

• FederaleRulemakingPortal: Go to www.regulations.gov. Enter APHIS-2025-0018 in the Search field. Select the Documents tab, then select the Comment button in the list of documents.

• Postal Mail/Commercial Delivery: Send your comment to Docket No. APHIS-2025-0018, Regulatory Analysis and Development, PPD, APHIS, Regulatory Analysis and Development, 5601 Sunnyside Ave., #AP760, Beltsville, MD 20705.

Any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Benjamin Kaczmarski, USDA-APHIS Regulatory Officer, Regulatory Analysis and Development, 5601 Sunnyside Ave., #AP760, Beltsville, MD 20705; (240) 636-2149.

SUPPLEMENTARY INFORMATION:

Background

The regulations in 9 CFR part 93 (referred to below as the regulations) prohibit or restrict the importation of certain animals, including horses, to protect U.S livestock from communicable diseases.

On September 14, 2023, we published in the Federal Register a final rule ¹ (88 FR 62993-63004) amending the horse import regulations to better align them with international standards and improve flexibility for both the equine industry and the Animal and Plant Health Inspection Service (APHIS). One of the changes we made in that final rule was to require, in § 93.314(a)(5), that horses offered for importation to the United States be accompanied by documentation of pre-export examination occurring within 48 hours of departure from the port of embarkation endorsed by a salaried veterinary medical officer. We added this requirement in order to further ensure that only horses that are compliant with the regulations enter the United States. As we stated in the final rule, APHIS was encountering an increasing number of sick or injured horses that were arriving at the United States port of entry. We therefore felt that adding a requirement for an additional inspection would help mitigate this concern and prevent against the possible introduction or dissemination of diseases and pests of livestock. We also cited a belief that this requirement could prove beneficial to importers by reducing the time associated with post-entry quarantine, and the attendant user fees, for imported horses.

¹ To view the proposed rule, final rule, supporting documents, and public comments, go to: https://www.regulations.gov/document/APHIS-2016-0033-0031.

During the comment period preceding the publication of the final rule, commenters did not dispute that this was our intent for the requirement. However, they expressed concern regarding unforeseeable circumstances, such as flight delays, that would prevent an inspection from occurring within the 48-hour period. In the final rule, we responded that extenuating circumstances would be handled by APHIS on a case-by-case basis, as provided for by the regulations in § 93.301(a). Paragraph (a) of § 93.301 allows the Administrator of APHIS, upon request and in specific cases, to permit horses to be brought into the United States under such conditions as the Administrator may prescribe, when the Administrator determines in the specific case that such action will not endanger the livestock or poultry of the United States. This paragraph is intended for case-specific deviations due to unique circumstances presented to the agency and is not intended for broad or routine deviations from the terms of the regulations.

However, following the publication of the final rule, APHIS has had to grant recurring deviations for the specific circumstances cited by the commenters during the comment period—flight delays and long layovers. Moreover, several foreign regions indicated that salaried veterinary officers in the region were not available at ports of departure on weekends. Again, this resulted in regular and reasonably foreseeable circumstances that precluded regulated parties from compliance with the regulations through no fault of their own. While APHIS has worked with our trading partners to address this latter issue in the intervening time since the rule's implementation, it again underscores that deviations pursuant to § 93.301(a) are not the appropriate means of addressing compliance issues associated with the pre-export inspection requirement. Therefore, we are proposing to remove from the regulations the requirement that horses be accompanied by documentation of pre-export examination occurring within 48 hours of departure from the port of embarkation endorsed by a salaried veterinary medical officer.

As we alluded to earlier, the regulations require that horses presented for importation undergo multiple inspections to ensure that communicable animal disease does not enter the United States. Section 93.314(a) requires that horses be accompanied by an original certificate showing that the horse has been inspected on the premises of origin and found free of evidence of communicable disease and exposure to disease during the 60 days preceding exportation. Section 93.304 allows APHIS to request additional inspections or attestations of disease freedom as a condition for issuing a permit for the importation of the horses; if a permitting condition requires inspection within a specific time period, it must still be adhered to. Section 93.306 requires that horses be inspected at the United States port of entry for evidence of communicable disease or exposure thereto. Horses that do not meet these criteria are refused entry. Finally, as noted previously in this document, § 93.301(a) allows the Administrator, upon request, to develop case-specific import protocols, which could include pre-export inspections. For the above reasons, we believe that sufficient safeguards exist to prevent the introduction of communicable animal disease into the United States related to the importation of horses, and that removing the requirement for the additional pre-export inspection established in the final rule will not increase disease risk.

We also note that the final rule addressed the issue of sick or injured horses arriving at the port of entry in numerous ways, not only by requiring an additional inspection. For example, we clarified the health certificate requirements in § 93.314 to help us confirm the legitimacy of health certificates and thereby increase compliance, and added additional requirements to help decrease disease risk, such as requiring that a horse was not gelded shortly before importation. We also added shipping container requirements in § 93.302, including measures to ensure that horses are transported safely. These provisions, as well as all other requirements related to the importation of horses into the United States, would remain in place and unchanged by this rule.

Executive Order 12866, Executive Order 14192, and Regulatory Flexibility Act

This rule does not meet the criteria of a “significant regulatory action” under Executive Order 12866, as amended by Executive Orders 14215 and 13563. Therefore, the Office of Management and Budget (OMB) has not reviewed this rule under those orders.

This regulation is also not a “regulatory action,” as the meaning of that term is set forth in Executive Order 14192 and implementing guidance.

Initial Regulatory Flexibility Act

Under the Regulatory Flexibility Act (RFA) (5 U.S.C. 601-612) (as amended by the Small Business Regulatory Enforcement Fairness Act (SBREFA) of 1996; 5 U.S.C. 601 et seq.), agencies must prepare and make available for public comment a regulatory flexibility analysis that describes the effect of the rule on small entities (i.e., small businesses, small organizations, and small government jurisdictions). No regulatory flexibility analysis is required, however, if the head of an agency or an appropriate designee certifies that the rule will not have a significant economic impact on a substantial number of small entities. APHIS has concluded and hereby certifies that this rule will not have a significant economic impact on a substantial number of small entities; therefore, an analysis is not included. This proposed recission rule will only have minor and beneficial impacts on small entities engaged in the importation of equines by removing a requirement that has proven logistically difficult to implement consistently. This proposed recission rule will have a beneficial effect on these small entities, lowering costs related to paperwork and otherwise improving regulatory compliance with the remaining provisions of the regulations.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no new reporting or recordkeeping requirements under the Paperwork Reduction Act of 1995 (44 U.S.C. 3501 et seq.). Further, this proposed rule would reduce the reporting and recordkeeping requirements in 9 CFR 93.314.

List of Subjects in 9 CFR Part 93

Animal diseases, Imports, Livestock, Poultry and poultry products, Reporting and recordkeeping requirements.

Accordingly, we propose to amend 9 CFR part 93, subpart C, as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

§ 93.314 [Amended]

2. Amend § 93.314 by removing paragraph (a)(5), and renumbering paragraphs (a)(6) and (a)(7) as paragraphs (a)(5) and (a)(6), respectively.

Done in Washington, DC, this 17th day of June 2025.
Michael Watson,
Administrator, Animal and Plant Health Inspection Service.

[FR Doc. 2025-11395 Filed 6-18-25; 8:45 am]

BILLING CODE 3410-34-P